DEPARTMENT OF COMMERCE

National Oceanic and Atmospheric Administration

[RTID 0648-XC368]

Membership of the National Oceanic and Atmospheric Administration Performance Review Board

AGENCY: National Oceanic and Atmospheric Administration (NOAA), Department of Commerce (DOC).

ACTION: Notice of membership of the 2022 NOAA Performance Review Board.

SUMMARY: NOAA announces the appointment of members who will serve on the 2022 NOAA Performance Review Board (PRB). The NOAA PRB is responsible for reviewing performance appraisals and ratings of Senior Executive Service (SES), Senior Level (SL), and Scientific and Professional (ST) members and making written recommendations to the appointing authority on retention and compensation matters, including performance-based pay adjustments, awarding of bonuses, and reviewing recommendations for potential Presidential Rank Award nominees. The appointment of members to the NOAA PRB will be for a period of 2 years.

DATES: The effective date of service of the ten appointees to the NOAA Performance Review Board is October 25-28, 2022.

FOR FURTHER INFORMATION CONTACT: Mr. Charles A. McLeod, Human Resources Specialist, Executive Resources Division, Office of Human Capital Services, NOAA, 1305 East-West Highway, Silver Spring, Maryland 20910, (301) 628-1883.

SUPPLEMENTARY INFORMATION: The names and positions of the members for the 2022 NOAA PRB are set forth below:

• David Michaud, Chair: Director, Office of Central Processing, National Weather Service, NOAA

• Kelly Mabe, Co-Chair: Deputy Director, Acquisition and Grants Office, NOAA

• Carrie Robinson: Director, Habitat Conservation, National Marine Fisheries Service, NOAA

• Michelle Mainelli-McInerney: Director, Office of Dissemination, National Weather Service, NOAA

• Makeda Okolo: Director, Office of Legislative & Intergovernmental Affairs, NOAA

• James Donnellon: Chief Financial Officer-Chief Administrative Officer, National Environmental Satellite, Data, and Information Service, NOAA

• Kevin Kimball: Chief of Staff, National Institute of Standards and Technology

• Juliana Blackwell: Director, Office of National Geodetic Survey, National Ocean Service, NOAA

• Deirdre Jones: Chief Administrative Officer, NOAA

• John Cortinas: Director, Atlantic Oceanographic and Meteorological Laboratory, NOAA

• Jonathan Hare, Director, Science and Research, NE Region, NOAA

• Wayne Higgins, Director, Climate Program Office, NOAA

• Karen Hyun, Chief of Staff, NOAA

• James St. Pierre, Acting Director, Information Technology Laboratory, National Institute of Standards and Technology

Dated: September 20, 2022.
Richard W. Spinrad,
Under Secretary of Commerce for Oceans and Atmosphere and NOAA Administrator.

[FR Doc. 2022-20882 Filed 9-26-22; 8:45 am]

BILLING CODE 3510-22-P